DEPARTMENT OF TRANSPORTATION

Office of the Secretary

Notice of Applications for Certificates of Public Convenience and Necessity and Foreign Air Carrier Permits Filed Under Subpart B (Formerly Subpart Q) During the Week Ending April 5, 2014

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0046.

Date Filed: April 2, 2014.

Due Date for Answers, Conforming Applications, or Motion To Modify Scope: April 23, 2014.

Description: Application of Eurolot S.A. (“Eurolot”) requesting a foreign air carrier permit to enable Eurolot, consistent with the open skies, U.S.- European Union (“EU”) Air Transport Agreement, to provide: (i) Foreign scheduled and charter air transportation of persons, property, and mail from any point or points behind any Member State of the European Union, via any point or points in any Member State and via intermediate points to any point or points in the United States and beyond; (ii) foreign scheduled and charter air transportation of persons, property, and mail between any point or points in the United States and any point or points in any member of the European Common Aviation Area; (iii) foreign scheduled and charter cargo air transportation between any point or points in the United States and any other point or points; (iv) other charters pursuant to the prior approval requirements; (v) and transportation authorized by any additional route rights made available to European Union carriers in the future. Eurolot also requests: (i) Exemption authority, to the extent necessary and for an initial period of two years or until the requested permit is issued, to enable it to hold out and provide the service described above; and (ii) such additional or other relief as the Department may deem necessary or appropriate.

Docket Number: DOT-OST-2014-0050.

Date Filed: April 4, 2014.

Due Date for Answers, Conforming Applications, or Motion To Modify Scope: April 25, 2014.

Description: Application of Compania de Servicios de Transporte Aereo Amaszonas S.A. requesting a foreign air carrier permit to engage in charter air transportation from Viru Viru International to Miami International as well as other destinations within the United States.

Barbara J. Hairston,
Supervisory Dockets Officer, Docket Operations, Federal Register Liaison.

[FR Doc. 2014-08765 Filed 4-16-14; 8:45 am]

BILLING CODE 4910-9X-P